DEPARTMENT OF HEALTH AND HUMAN SERVICES

Centers for Disease Control and Prevention

[Program Announcement 00096]

National Limb Loss Information Center; Notice of Availability of Funds

A. Purpose

The Centers for Disease Control and Prevention (CDC) announces the availability of fiscal year (FY) 2000 funds for a grant program for a National Limb Loss Information Center (NLLIC). The purpose of the program is to support a NLLIC which will: (1) serve as a national clearinghouse to provide educational materials, referral services, and self-help guidance to persons with limb loss and their families; (2) establish collaborative relationships with peer support groups and conduct peer visitation training opportunities provided through relationships with hospitals and limb loss support groups; (3) provide information to health care providers and professionals regarding limb loss; and (4) develop school-based educational efforts to increase the knowledge and understanding of students regarding limb loss. CDC is committed to achieving the health promotion and disease prevention objectives of “Healthy People 2010,” a national activity to reduce morbidity and mortality and improve the quality of life. This announcement is related to the focus area of “Disability and Secondary Conditions.” For the conference copy of “Healthy People 2010,” visit the Internet site: http://www.health.gov/healthypeople

B. Eligible Applicants

Applications may be submitted by public and private non-profit organizations and by governments and their agencies; that is, universities, colleges, research institutions, hospitals, other public and private non-profit organizations, State and local governments or their bona fide agents, and federally recognized Indian tribal governments, Indian tribes, or Indian tribal organizations.

Note: Public Law 104-65 states that an organization described in section 501(c)(4) of the Internal Revenue Code of 1986 that engages in lobbying activities is not eligible to receive federal funds constituting an award, grant, cooperative agreement, contract, loan, or any other form.

C. Availability of Funds

Approximately $1,400,000 will be available in FY 2000 to fund one award. It is expected that the award will begin on or about September 30, 2000 and will be made for a 12-month budget period within a project period of up to three years. Funding estimates may change. Continuation awards within an approved project period will be made on the basis of satisfactory progress as evidenced by required reports and the availability of funds. The award made under this announcement will be made with the expectation that program activities will continue when grant funds decrease.

Use of Funds

Grant funds may be used to support personnel services, supplies, equipment, travel, subcontracts, and other services directly related to project activities consistent with the approved scope of work. Project funds may not be used to supplant other agency funds, construction, purchase of facilities or space, or for patient care. Project funds may not be used for individualized preventive or rehabilitative measures (direct patient support) such as for wheelchairs, medical appliances, or assistive technology unless specifically approved by the funding agency.

D. Program Requirements

Applicants are required to collect, organize, and disseminate limb loss educational materials and resources and provide effective management systems for all center operations. Major tasks and responsibilities include:

1. Establish, maintain, and manage a comprehensive project management information system, including data on clients, referrals, and resources;

2. Establish and maintain a resource library regarding limb loss which includes a comprehensive electronic resource database;

3. Utilize universities, research institutions and other noted authorities such as Rehabilitation Hospitals to collect and maintain a comprehensive inventory of current educational materials regarding limb loss;

4. Develop appropriate information, educational messages, and guidance to individuals with limb loss;

5. Develop and disseminate a national education publication that conveys the most current advances in treatment and care of persons with limb loss and disability;

6. Develop a peer visitation training initiative to conduct self-help training and work with support networks, including outreach to special populations such as women, racial and ethnic minorities, and the elderly;

7. Develop standardized materials to assist local organizations in the conduct of appropriate visitation programs;

8. Develop and utilize affiliations with public school systems, other educational facilities, and educational professionals to provide limb loss information to teachers and students;

9. Develop and utilize collaborative relationships with State and local medical societies and health care professionals in order to enhance health care providers' understanding of the needs of people with limb loss;

10. Develop and utilize collaborative relationships with disability organizations to better assess affected individuals and families.

E. Application Content

Use the information in the Program Requirements, Other Requirements, and Evaluation Criteria sections to develop the application content. Applications will be evaluated on the criteria listed; so, it is important to follow them in laying out the program plan. The narrative should be no more than 40 double-spaced pages, printed on one side, with one inch margins, and unreduced font.

The application should describe how the applicant:

1. Is recognized as an organization with established expertise in the provision of educational and support services to individuals with limb loss and their families.

2. Is experienced in limb loss rehabilitation processes and has strong collaborative relationships with a national network of local affiliates and other organizations that provide both rehabilitation and disability services.

3. Can demonstrate and document historical or proposed collaborative relationships with the submission of memorandums of agreement and/or letters of support.

4. Can demonstrate and document competencies in developing and disseminating educational and training materials regarding limb loss that can be utilized for a wide range of informational and referral needs by individuals and interested organizations.

5. Can provide substantive details and information as to how each of the Program Requirements components will be conducted and coordinated into a cohesive and efficient national program.

Recipient Financial Participation

Recipient financial participation is not required for this program in accordance with the authorizing legislation. However, the applicant should document any sources of financial support for a portion of the project cost, such as salaries for key staff and tangible contributions by collaborating agencies.

F. Submission and Deadline

Letter of Intent (LOI)

A letter of intent is requested from prospective applicants. The letter should not exceed two pages. It must identify this Announcement number, organization, and name of the proposed project director. The letter will not be used to eliminate potential applicants, but it will enable CDC to determine the level of interest in the Announcement, and allow CDC to plan the independent review more efficiently.

On or before July 5, 2000, submit the letter of intent to the Grants Management Specialist identified in the “Where to Obtain Additional Information” section of this Announcement.

Application

Submit the original and two copies of PHS 5161-1 (OMB Number 0937-0189). Forms are available at the following Internet address: http://www.cdc.gov, or in the application kit. On or before July 26, 2000, submit the application to the Grants Management Specialist identified in the “Where to Obtain Additional Information” section of this announcement.

Deadline: Applications shall be considered as meeting the deadline if they are either:

a. Received on or before the deadline date; or

b. Sent on or before the deadline date and received in time for submission to the independent review group. (Applicants must request a legibly dated U.S. Postal Service postmark or obtain a legibly dated receipt from a commercial carrier or U.S. Postal Service. Private metered postmarks shall not be acceptable as proof of timely mailing.)

Late Applications: Applications which do not meet the criteria in a. or b. above are considered late applications, will not be considered, and will be returned to the applicant.

G. Evaluation Criteria

Each application will be evaluated individually against the following criteria by an independent review panel appointed by CDC.

1. Evidence of need and understanding of the problem: (15 Points)

a. The extent to which the applicant describes its understanding of the national limb loss problem as evidenced by estimates of incidence and/or prevalence, demographic indicators, and scope of the problem.

b. The extent to which the applicant describes the gaps that exists in current educational materials and the tools that would serve to better educate and facilitate more positive rehabilitation outcomes.

2. Evidence of the ability to provide educational materials needed to inform individuals with limb loss regarding rehabilitation and disability resources, and other pertinent information choices: (25 Points)

a. The extent to which the applicant describes its knowledge and use of current educational materials available in accessible formats (e.g., visually impaired) with regard to limb loss rehabilitation and identification of materials needed to address specific problems associated with the rehabilitation and the disabling process.

b. The extent to which the applicant describes its capacity to acquire and disseminate resources, educational materials and other tools (with descriptions of these resources) in regard to the rehabilitation options and other uses of disability information of benefit to persons with limb loss.

3. Technical Approach: (35 Points)

a. The extent to which the applicant describes its capacity to assess and ensure that the basic components of the project will be promoted and implemented.

b. The extent to which the applicant describes its proposed plan to establish and operate the National Limb Loss Information Center, and ensure its capability to function as a national coordinating focus for collection and dissemination of limb loss information.

c. The extent to which the applicant describes its approach to developing school based limb loss education programs for students and educational professionals.

d. The extent to which the applicant describes its approach to developing health care provider limb loss education programs.

e. The extent to which the applicant describes its demonstrated competency in developing educational materials, including accessible formats, regarding individuals with limb loss.

f. The extent to which the applicant describes the functions of the established oversight entity (such as a board of directors) including its composition, impact on policy, planning, and oversight for educational activities, with an indication of how it will complement existing educational and peer visitation programs.

g. The extent to which the applicant describes the reasonableness, feasibility, and logic of the designated project objectives, including the overall work plan, timetable for accomplishment, and the strength of the proposed evaluation plan.

h. The extent to which the applicant describes the available services and how access to project services, opportunities, and facilities will be achieved for persons with disabilities.

i. The extent to which the applicant describes its demonstrated competency of collecting data and utilizing data sets to establish program priorities and assess program effectiveness.

4. Outreach Capacity: (20 Points)

a. The extent to which the applicant describes its ability to establish and conduct a peer visitation training program initiative.

b. The extent to which the applicant identifies and describes the facilities and organizations to be visited and description of any planned follow-up to evaluate the number of training sessions that are initiated and the outcomes of these activities.

c. The extent to which the applicant describes its ability to target and outreach to several special population groups including women, racial and ethnic minorities, and the elderly.

d. The extent to which the applicant describes its ability to collect data and evaluate the effect of peer visitation and training programs.

5. National Educational Publication: (5 points)

The extent to which the applicant describes its plan to develop, distribute, and update a national educational publication that will provide information regarding limb loss.

6. Budget justification: (not scored)

The proposed budget will be evaluated on the basis of its reasonableness, concise and clear justification, accuracy and consistency with the intended use of grant funds.

H. Other Requirements

Provide CDC with an original plus two copies of:

1. Semiannual progress reports;

2. Financial Status Reports, no later than 90 days after the end of each budget period; and

3. Final Financial Status Report and performance report, due no more than 90 days after the end of the project period.

Send all reports to the Grants Management Specialist identified in the “Where to Obtain Additional Information” section of this announcement.

The following additional requirements are applicable to this program. For a complete description of each, see the ATTACHMENT in the application kit.

AR-7 Executive Order 12372 Review

AR-9 Paperwork Reduction Act Requirements

AR-10 Smoke-Free Workplace Requirements

AR-11 Healthy People 2010

AR-12 Lobbying Restrictions

I. Authority and Catalog of Federal Domestic Assistance Number

This program is authorized by Section 301 (a) (42 U.S.C. 241(a)) and Section 317 (42 U.S.C. 247b) of the Public Health Service Act, as amended. The Catalog of Federal Domestic Assistance number is 93.184.

J. Where To Obtain Additional Information

This and other funding opportunities may be found on the CDC home page on the Internet: http://www.cdc.gov. To receive additional written information and to request an application kit, call 1-888-GRANTS4 (1-888-472-6874). You will be asked to leave your name, address, and telephone number and will be instructed to identify the Announcement Number of interest.

If you have any questions after reviewing the contents of all the documents, business management technical assistance may be obtained from:

William Paradies, Grants Management Specialist, Grants Management Branch, Procurement and Grants Office, Centers for Disease Control and Prevention (CDC), 2920 Brandywine Road, Room 3000, Atlanta, Georgia 30341-4146, Telephone: (770) 488-2721, E-mail: wep2@cdc.gov

General program assistance can be obtained from: Jack Stubbs, Disability and Health Branch, National Center for Environmental Health, CDC, 4770 Buford Highway, Building 101, Mailstop F-29, Atlanta, Georgia 30341, Telephone: (770) 488-7096, E-mail: jbs2@cdc.gov

Dated: May 23, 2000.
John L. Williams,
Director, Procurement and Grants Office, Centers for Disease Control and Prevention (CDC).

[FR Doc. 00-13390 Filed 5-26-00; 8:45 am]

BILLING CODE 4163-18-P